DEPARTMENT OF TRANSPORTATION

Federal Aviation Administration

Notice of Approval of Finding of No Significant Impact (FONSI) on a Short Form Environmental Assessment (EA); Central Illinois Regional Airport, Bloomington, IL

AGENCY: Federal Aviation Administration (FAA), DOT.

ACTION: Notice of Approval of Documents.

SUMMARY: The Federal Aviation Administration (FAA) is issuing this notice to advise the public of the approval of a Finding of No Significant Impact (FONSI) on an Environmental Assessment for proposed Federal actions at Central Illinois Regional Airport, Bloomington, Illinois. The FONSI specifies that the proposed federal actions and local development projects are consistent with existing environmental policies and objectives as set forth in the National Environmental Policy Act of 1969 and will not significantly affect the quality of the environment.

A description of the proposed Federal action is: (a) To issue an environmental finding to allow approval of the Airport Layout Plan (ALP) for the development items listed below; (b) Approval of the Airport Layout Plan (ALP) for the development items listed below; and (c) Establish eligibility of the Central Illinois Regional Airport Authority to compete for Federal funding for the development projects depicted on the Airport Layout Plan.

The specific item in the local airport development project is to construct a new fuel farm.

Copies of the environmental decision and the Short Form EA are available for public information review during regular business hours at the following locations:

1. Central Illinois Regional Airport, 3201 CIRA Drive, Suite 200, Bloomington, Illinois.

2. Division of Aeronautics—Illinois Department of Transportation, One Langhorne Bond Drive, Capital Airport, Springfield, IL 62707.

3. Chicago Airports District Office, Room 320, Federal Aviation Administration, 2300 East Devon Avenue, Des Plaines, Illinois 60018.

FOR FURTHER INFORMATION CONTACT: E. Lindsay Butler, Airports Environmental Program Manager, Federal Aviation Administration, Chicago Airports District Office, Room 320, 2300 East Devon Avenue, Des Plaines, Illinois 60018. Ms. Bulter can be contacted at (847) 294-7723 (voice), (847) 294-7046 (facsimile) or by e-mail at lindsay.butler@faa.gov.

Issued in Des Plaines, Illinois, on May 16, 2006.
Larry H. Ladendorf,
Acting Manager, Chicago Airports District Office, FAA, Great Lakes Region.

[FR Doc. 06-5031 Filed 6-1-06; 8:45 am]

BILLING CODE 4910-13-M